DEPARTMENT OF DEFENSE

Office of the Department of the Air Force

Board of Visitors of the U.S. Air Force Academy; Notice of Federal Advisory Committee Meeting

AGENCY: Board of Visitors of the U.S. Air Force Academy, Department of the Air Force.

ACTION: Notice of Federal Advisory Committee meeting.

SUMMARY: On Thursday, July 5, 2018, the Department of Defense published a notice to announce a Federal Advisory Committee meeting of the Board of Visitors of the U.S. Air Force Academy to be held on July 27, 2018. Subsequent to the publication of the notice, the meeting timeframe for opening and closing was changed, as well as part of the order of agenda topics. All other information in the July 5, 2018 notice remains the same.

DATES: Open to the public Friday July 27, 2018 from 7:30 a.m. to 3:00 p.m. (Mountain Time).

ADDRESSES: United States Air Force Academy, Blue and Silver Club, Colorado Springs, CO.

FOR FURTHER INFORMATION CONTACT: Jean R. Love, (703) 692-7757 (Voice), 703-693-4244 (Facsimile), jean.r.love.civ@mail.mil (Email). Mailing address is SAF/MRM, 1660 Air Force Pentagon, Washington, DC 20330-1660. Website: https://www.usafa.edu/about/bov/.

Captain Natalie Campos, Officer of the Deputy Assistant Secretary of the Air Force, SAF/MRM, Executive Officer and Force Management Action Officer, 1660 Air Force Pentagon, Washington, DC 20330, (703) 697-7058, natalie.m.campos.mil@mail.mil.

SUPPLEMENTARY INFORMATION: Due to circumstances beyond the control of the Department of Defense (DoD) and the Designated Federal Officer, the meeting schedule for the previously announced meeting of the Board of Visitors of the U.S. Air Force Academy on July 27, 2018 was changed and the Designated Federal Officer to the Board of Visitors of the U.S. Air Force Academy was unable to provide sufficient public notification of this change as required by 41 CFR 102-3.150(a). Accordingly, the Advisory Committee Management Officer for the Department of Defense, pursuant to 41 CFR 102-3.150(b), waives the 15-calendar day notification requirement. This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: No change.

Agenda:

0730-0735 Introductions & opening remarks by Designated Federal Officer (Ms. Love)

0735-0740 Call to Order and Agenda Overview, BoV Chairman: Gen (Ret) Rice

0740-0745 Chairman's Opening Comments

0745-0845 Superintendent's Update

0845-0900 Comfort Break

0900-0945 Commandant's Update

0945-1030 Dean's Update

1030-1100 SAPR Update

1100-1130 CCLD's Update

1130-1215 BREAK: Group Photo, Lunch served

1215-1315 Admissions Update

1315-1330 Comfort Break

1330-1400 Athletic Director's Update

1400-1430 Superintendent's Summary Remarks

1430-1500 Chairman's Concluding Remarks

1500 Public Comment/Adjourn (DFO)

Meeting Accessibility: Open to the public subject to the availability of space. Registration of members of the public who wish to attend the meeting will begin upon publication of this meeting notice and end three business days (24 July) prior to the start of the meeting. All members of the public must contact Capt Campos at the phone number or email listed in the FOR FURTHER INFORMATION CONTACT. Seating is limited and is on a first-to-arrive basis. Attendees will be asked to provide their name, title, affiliation, and contact information to include email address and daytime telephone number to the POC listed in the FOR FURTHER INFORMATION CONTACT section. Any interested person may attend the meeting, file written comments or statements with the committee, or make verbal comments from the floor during the public meeting, at the times, and in the manner, permitted by the BoV.

Written Statements: Pursuant to 41 CFR 102-3.105(j) and 102-3.140 and section 10(a)(3) of the Federal Advisory Committee Act, the public or interested organizations may submit written comments or statements to the BoV about its mission and/or the topics to be addressed in this public meeting. Written comments or statements should be submitted to Capt Campos, via electronic mail, the preferred mode of submission, at the email address listed in the FOR FURTHER INFORMATION CONTACT section in the following formats: Adobe Acrobat or Microsoft Word. The comment or statement must include the author's name, title, affiliation, address, and daytime telephone number. Written comments or statements being submitted in response to the agenda set forth in this notice must be received by the committee DFO at least five (5) business days (20 July) prior to the meeting so that they may be made available to the BoV Chairman for their consideration prior to the meeting. Written comments or statements received after this date (20 July) may not be provided to the BoV until its next meeting. Please note that because the BoV operates under the provisions of the Federal Advisory Committee Act, as amended, all written comments will be treated as public documents and will be made available for public inspection.

Verbal Comments: Members of the public will be permitted to make verbal comments during the meeting only at the time and in the manner allowed herein. If a member of the public is interested in making a verbal comment at the open meeting, that individual must submit a request, with a brief statement of the subject matter to be addressed by the comment, at least three (3) business days (24 July) in advance, via electronic mail, the preferred mode of submission, at the email address listed in the FOR FURTHER INFORMATION CONTACT section. The BoV DFO will log each request to make a comment, in the order received, and the DFO and BoV Chairman will determine whether the subject matter of each comment is relevant to the BoV's mission and/or the topics to be addressed in this public meeting. A period near the end of the meeting will be available for verbal public comments. Members of the public who have requested to make a verbal comment and whose comments have been deemed relevant under the process described in this paragraph, will be allotted no more than five (5) minutes during this period, and will be invited to speak in the order in which their requests were received by the DFO. For the benefit of the public, rosters that list the names of BoV members and any releasable materials presented during the BoV meeting shall be made available upon request.

Henry Williams,
Acting Air Force Federal Register Liaison Officer, Department of Defense.

[FR Doc. 2018-15898 Filed 7-24-18; 8:45 am]

BILLING CODE 5001-10-P